DEPARTMENT OF HOUSING AND URBAN DEVELOPMENT

[Docket No. FR-5121-N-23]

Notice of Proposed Information Collection: Comment Request; Home Equity Conversion Mortgage (HECM) Insurance Application for the Origination of Reverse Mortgages and Related Documents OMB Control Number 2502-0524

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: August 28, 2007.

ADDRESSES: Interested persons are invited to submit comments regarding this proposal. Comments should refer to the proposal by name and/or OMB Control Number and should be sent to: Lillian Deitzer, Reports Management Officer, Department of Housing and Urban Development, 451 7th Street, SW., Room 4178, Washington, DC 20410 or Lillian_L_Deitzer@hud.gov.

FOR FURTHER INFORMATION CONTACT: James Beavers, Acting Director, Office of Single Family Program Development, Single Family Housing, Department of Housing and Urban Development, 451 7th Street SW., Washington, DC 20410, telephone (202) 708-2121 (this is not a toll free number) for copies of the proposed forms and other available information.

SUPPLEMENTARY INFORMATION: The Department is submitting the proposed information collection to OMB for review, as required by the Paperwork Reduction Act of 1995 (44 U.S.C. CHAPTER 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Home Equity Conversion Mortgage (HECM) Insurance Application for the Origination of Reverse Mortgages and Related Documents.

OMB Control Number, if applicable: 2502-0524.

Description of the need for the information and proposed use: The documents requested are used to determine the eligibility of a reverse mortgage loan application and property requirements for FHA's mortgage insurance. This collection also ocntains disclosure requirements that will provide the prospective borrower with statutory and regulatory information needed to explain the financial implications of and alternatives to a HECM; the costs associated with obtaining a reverse mortgage; due and payable conditions and other relevant information necessary to determine if this type of mortgage transaction is for the sole benefit of the borrower. Without these documents, HUD would have difficulty in determining the eligibility of a loan application and property, thus, jeopardize the insurance fund.

Agency form numbers, if applicable: FNMA 1009 and 1003, HUD-92900-A, HUD-92901, HUD-92902, HUD-1, HUD-92051, HUD-92800.5B, HUD-92561, FANNIE MAE 1004, FANNIE MAE 1004C, FANNIE MAE 1073, and FANNIE MAE 1025.

Estimation of the total numbers of hours needed to prepare the information collection including number of respondents, frequency of response, and hours of response: This OMB Information Collection has an estimated total burden hours of 132,894.40, with an estimated 2,020 respondents and a total of 90,020 responses.

Status of the proposed information collection: Reinstatement of a currently approved collection OMB Control No. (2502-0524).

Authority: The Paperwork Reduction Act of 1995, 44 U.S.C., Chapter 35, as amended.

Dated: June 20, 2007.
Frank L. Davis,
General Deputy Assistant Secretary for Housing—Deputy Federal Housing Commissioner.

[FR Doc. 07-3214 Filed 6-28-07; 8:45 am]

BILLING CODE 4210-67-M